FEDERAL COMMUNICATIONS COMMISSION

47 CFR Part 64

[CG Docket No. 02-278; Report No. 3170; FRS 19657]

Petition for Reconsideration of Action in Proceedings

AGENCY: Federal Communications Commission.

ACTION: Petitions for Reconsideration.

SUMMARY: Petitions for Reconsideration (Petition) have been filed in the Commission's proceeding by Mitchell N. Roth, on behalf of Enterprise Communications Advocacy Coalition and Mark W. Brennan, on behalf of ACA International et al.

DATES: Oppositions to the Petitions must be filed on or before April 27, 2021. Replies to an opposition must be filed on or before May 7, 2021.

ADDRESSES: Federal Communications Commission, 45 L Street NE, Washington, DC 20554.

FOR FURTHER INFORMATION CONTACT: Richard D. Smith, Consumer and Governmental Affairs Bureau, (717) 338-2797.

SUPPLEMENTARY INFORMATION: This is a summary of the Commission's document, Report No. 3170, released March 31, 2021. The full text of the Petitions can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Rules and Regulations Implementing the Telephone Consumer Protection Act of 1991, published 86 FR 11443, February 25, 2021, in CG Docket No 02-278. This document is being published pursuant to 47 CFR 1.429(e). See also 47 CFR 1.4(b)(1) and 1.429(f), (g).

Number of Petitions Filed: 2.

Federal Communications Commission.
Marlene Dortch,
Secretary, Office of the Secretary.

[FR Doc. 2021-07360 Filed 4-9-21; 8:45 am]

BILLING CODE 6712-01-P